DEPARTMENT OF TRANSPORTATION

Surface Transportation Board

[Docket No. AB 550 (Sub-No. 3X)]

R.J. Corman Railroad Company/Allentown Lines, Inc.—Abandonment Exemption—in Lehigh County, PA

On April 30, 2015, R.J. Corman Railroad Company/Allentown Lines, Inc. (RJC) filed with the Surface Transportation Board (Board) a petition under 49 U.S.C. 10502 for exemption from provisions of 49 U.S.C. 10903 to abandon approximately 3.5 miles of rail line extending between milepost 93.18 in Allentown, Pa., and milepost 96.709 in or near Whitehall, Pa. (the Line). The Line traverses United States Postal Service Zip Codes 18102 and 18052.

According to RJC, there is one shipper, American Carbonation (AC), which leases property adjacent to the right-of-way to conduct a transload operation. RJC states that AC is aware of RJC's proposed abandonment and does not object. RJC and AC have worked to relocate AC's transloading operation to a nearby RJC yard track not included within the scope of this abandonment. From the new location, RJC will serve AC directly at (or before) such time as RJC officially terminates operations over the Line. AC expects to be able to ship and receive carload traffic to and from this new location on or before May 31, 2015.

After receiving Board authority to abandon the Line, RJC intends to salvage the rails, ties, and other track material and then convey its right, title, and interest, if any, in the portion of the subject right-of-way to Trestle Redevelopment Partners (Trestle). Trestle plans to use that portion of the corridor in connection with a multi-faceted riverfront redevelopment project.

According to RJC, the Line does not contain federally granted rights-of-way. Any documentation in RJC's possession will be made available promptly to those requesting it.

The interest of railroad employees will be protected by the conditions set forth in Oregon Short Line Railroad—Abandonment Portion Goshen Branch Between Firth & Ammon, In Bingham & Bonneville Counties, Idaho, 360 I.C.C. 91 (1979).

By issuing this notice, the Board is instituting an exemption proceeding pursuant to 49 U.S.C. 10502(b). A final decision will be issued by August 19, 2015.

Any OFA under 49 CFR 1152.27(b)(2) will be due by August 29, 2015, or 10 days after service of a decision granting the petition for exemption, whichever occurs first. Each OFA must be accompanied by a $1,600 filing fee. See 49 CFR 1002.2(f)(25).

All interested persons should be aware that, following abandonment, the Line may be suitable for other public use, including interim trail use. Any request for a public use condition under 49 CFR 1152.28 or for trail use/rail banking under 49 CFR 1152.29 will be due no later than June 10, 2015. Each trail request must be accompanied by a $300 filing fee. See 49 CFR 1002.2(f)(27).

All filings in response to this notice must refer to Docket No. AB 550 (Sub-No. 3X) and must be sent to: (1) Surface Transportation Board, 395 E Street SW., Washington, DC 20423-0001; and (2) Audrey L. Brodrick, Fletcher & Sippel LLC, 29 North Wacker Drive, Suite 920, Chicago, IL 60606-2832. Replies to the petition are due on or before June 10, 2015.

Persons seeking further information concerning abandonment procedures may contact the Board's Office of Public Assistance, Governmental Affairs and Compliance at (202) 245-0238 or refer to the full abandonment regulations at 49 CFR part 1152. Questions concerning environmental issues may be directed to the Board's Office of Environmental Analysis (OEA) at (202) 245-0305. Assistance for the hearing impaired is available through the Federal Information Relay Service at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available on our Web site at “WWW.STB.DOT.GOV.”

Decided: May 15, 2015.
By the Board, Rachel D. Campbell, Director, Office of Proceedings.
Brendetta S. Jones,
Clearance Clerk.

[FR Doc. 2015-12314 Filed 5-20-15; 8:45 am]

BILLING CODE 4915-01-P